DEPARTMENT OF ENERGY

Federal Energy Regulatory Commission

[Docket No. PF15-3-000]

Mountain Valley Pipeline, LLC; Notice of Intent To Prepare an Environmental Impact Statement for the Planned Mountain Valley Pipeline Project, Request for Comments on Environmental Issues, and Notice of Public Scoping Meetings

The staff of the Federal Energy Regulatory Commission (FERC or Commission) will prepare an environmental impact statement (EIS) that will discuss the environmental impacts of the Mountain Valley Pipeline Project (MVP Project) involving construction and operation of natural gas facilities by Mountain Valley Pipeline, LLC (Mountain Valley), a joint venture between affiliates of EQT Corporation and NextEra Energy, Inc., in West Virginia and Virginia. For further details about the project facilities and locations, see “Summary of the Proposed Project” below. The Commission will use this EIS in its decision-making process to determine whether the project is in the public convenience and necessity.

This notice announces the opening of the scoping process the Commission will use to gather input from the public and interested agencies on the project. You can make a difference by providing us with your specific comments or concerns about the project. Your comments should focus on the potential environmental effects, reasonable alternatives, and measures to avoid or lessen environmental impacts. Your input will help the Commission staff determine what issues they need to evaluate in the EIS. To ensure that your comments are timely and properly recorded, please send your comments so that the Commission receives them in Washington, DC on or before June 16, 2015.

If you sent comments on this project to the Commission before the opening of the docket on October 27, 2014, you will need to re-file those comments in Docket No. PF15-3-000 to ensure they are considered as part of this proceeding. Any comments submitted after the establishment of a project docket do not need to be re-filed.

This notice is being sent to the Commission's current environmental mailing list for this project. State and local government representatives should notify their constituents of this planned project and encourage them to comment on their areas of concern.

If you are a landowner receiving this notice, a Mountain Valley representative may contact you about the acquisition of an easement to construct, operate, and maintain the planned facilities. The company would seek to negotiate a mutually acceptable agreement. However, if the Commission approves the project, that approval conveys with it the right of eminent domain. Therefore, if easement negotiations fail to produce an agreement, the pipeline company could initiate condemnation proceedings where compensation would be determined in accordance with state law.

A fact sheet prepared by the FERC entitled “An Interstate Natural Gas Facility On My Land? What Do I Need To Know?” is available for viewing on the FERC Web site (www.ferc.gov). This fact sheet addresses a number of typically asked questions, including the use of eminent domain and how to participate in the Commission's proceedings.

Public Participation

You can make a difference by providing us with your specific comments or concerns about the project. Your comments should focus on the potential environmental effects, reasonable alternatives, and measures to avoid or lessen environmental impacts. The more specific your comments, the more useful they will be. To ensure that your comments are timely and properly recorded, please send your comments so that the Commission receives them in Washington, DC on or before June 16, 2015.

For your convenience, there are four methods you can use to submit your comments to the Commission. In all instances, please reference the project docket number (PF15-3-000) with your submission. The Commission encourages electronic filing of comments and has expert staff available to assist you at (202) 502-8258 or efiling@ferc.gov.

(1) You can file your comments electronically using the eComment feature located on the Commission's Web site (www.ferc.gov) under the link to Documents & Filings. This is an easy method for interested persons to submit brief, text-only comments on a project;

(2) You can file your comments electronically using the eFiling feature located on the Commission's Web site (www.ferc.gov) under the link to Documents & Filings. With eFiling, you can provide comments in a variety of formats by attaching them as a file with your submission. New eFiling users must first create an account by clicking on eRegister. You must select the type of filing you are making. If you are filing a comment on a particular project, please select Comment on a Filing; or

(3) You can file a paper copy of your comments by mailing them to the following address: Kimberly D. Bose, Secretary, Federal Energy Regulatory Commission, 888 First Street NE., Room 1A, Washington, DC 20426.

(4) In lieu of sending written or electronic comments, the Commission invites you to attend one of the public scoping meetings its staff will conduct in the project area, scheduled as follows.

FERC Public Scoping Meetings—MVP Project
Date and time | Location
Monday, May 4, 2015, 7:00 p.m. | James Monroe High School, Route 1, Lindside, WV 24951
Tuesday, May 5, 2015, 7:00 p.m. | Eastern Montgomery High School, 4695 Crozier Road, Elliston, VA 24087
Thursday, May 7, 2015, 7:00 p.m. | Chatham High School, 100 Cavalier Circle, Chatham, VA 24531
Monday, May 11, 2015, 7:00 p.m. | Robert C. Byrd Center, 992 North Fork Road, Pine Grove, WV 26419
Tuesday, May 12, 2015, 7:00 p.m. | West Virginia University Jackson's Mill, 160 WVU Jackson Mill, Weston, WV 26452
Wednesday, May 13, 2015, 7:00 p.m. | Nicholas County High School, 30 Grizzly Road, Summersville, WV 26651

We ¹ will begin our sign-up of speakers one hour prior to the start of each meeting (at 6:00 p.m.). The scoping meetings will begin at 7:00 p.m., with a description of our environmental review process by Commission staff, after which speakers will be called. Each meeting will end once all speakers have provided their comments or when our contracted time for the facility closes. Please note that there may be a time limit of three minutes to present comments, and speakers should structure their comments accordingly. If time limits are implemented, they will be strictly enforced to ensure that as many individuals as possible are given an opportunity to comment. The meetings will be recorded by a stenographer to ensure comments are accurately recorded. Transcripts will be entered into the formal record of the Commission proceeding. The Commission will give equal consideration to all comments received, whether filed in written form or provided verbally at the scoping meeting.

¹ “We,” “us,” and “our” refer to the environmental staff of the Commission's Office of Energy Projects.

Mountain Valley representatives will be present one hour prior to the start of the scoping meetings to provide additional information about the project and answer questions.

Summary of the Planned Project

The MVP Project would involve the construction and operation of about 294 miles of 42-inch-diameter buried steel pipeline in Wetzel, Harrison, Doddridge, Lewis, Braxton, Webster, Nicholas, Greenbrier, Fayette, Summers, and Monroe Counties, West Virginia and Giles, Montgomery, Roanoke, Franklin, and Pittsylvania Counties in Virginia. The pipeline would originate at Equitrans, L.P.'s existing transmission system in Wetzel County, West Virginia and terminate at the existing Transcontinental Gas Pipeline Company LLC's existing Zone 5 Compressor Station 165 in Pittsylvania County, Virginia. Additional facilities would include 4 new compressor stations in Wetzel, Braxton, and Fayette Counties, West Virginia and Montgomery County, Virginia; 4 new meter stations; 49 main line valves, and 6 pig ² launchers and/or receivers.

² A “pig” is an internal tool that the pipeline company inserts into and pushes through the pipeline for cleaning, inspections, or other purposes.

The MVP Project would provide about 2 billion cubic feet of natural gas per day to markets in the Mid-Atlantic and Southeastern United States. The general location of the project facilities are shown in appendix 1.³

³ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

Construction of the planned facilities would disturb about 5,458 acres of land for the pipeline and aboveground facilities, not including temporary access roads which are not yet determined. Following construction, Mountain Valley would maintain about 2,687 acres for permanent operation of the project's facilities, not including permanent access roads; the remaining acreage would be restored and revert to former uses. About 15 percent of the planned pipeline route parallels existing pipeline, utility, and road rights-of-way.

The EIS Process

The National Environmental Policy Act (NEPA) requires the Commission to take into account the environmental impacts that could result from an action whenever it considers the issuance of a Certificate of Public Convenience and Necessity. The NEPA also requires us to discover and address concerns the public may have about proposals. This process is referred to as scoping. The main goal of the scoping process is to focus the analysis in the EIS on the important environmental issues. By this notice, the Commission requests public comments on the scope of the issues to address in the EIS. We will consider all filed comments (including verbal comments presented at the public scoping meetings) during the preparation of the EIS.

In the EIS we will discuss impacts that could occur as a result of the construction and operation of the planned project under these general headings:

• Geology and soils;

• Water resources and wetlands;

• Vegetation and wildlife;

• Cultural resources;

• Land use, recreation, and visual resources;

• Socioeconomics;

• Air quality and noise;

• Cumulative impacts; and

• Public safety.

As part of our analysis under the NEPA, we will consider or recommend measures to avoid, minimize, or mitigate impacts on specific resources. We will also evaluate possible alternatives to the planned project or portions of the project. Mountain Valley has proposed a number of alternatives, developed through the company's route selection process or identified by stakeholders, in draft Resource Report 10 filed with the FERC in Docket No. PF15-3-000 on April 14, 2015. During scoping, we are specifically soliciting comments on the range of alternatives for the project.

Although no formal application has been filed, we have already initiated our environmental review under the Commission's pre-filing process. The purpose of the pre-filing process is to encourage early involvement of interested stakeholders and to identify and resolve issues before the FERC receives a formal application from Mountain Valley. During the pre-filing process, we contacted federal and state agencies to discuss their involvement in scoping and the preparation of the EIS.

With this notice, we are asking agencies with jurisdiction by law and/or special expertise with respect to the environmental issues related to this project to formally cooperate with us in the preparation of the EIS.⁴ Agencies that would like to request cooperating agency status should follow the instructions for filing comments provided under the Public Participation section of this notice. Currently, the U.S. Department of Agriculture, Forest Service, Jefferson National Forest (USFS); U.S. Army Corps of Engineers, Huntington and Norfolk Districts; U.S. Environmental Protection Agency, Region 3; U.S. Department of Transportation, Pipeline and Hazardous Materials Safety Administration; West Virginia Department of Natural Resources; and West Virginia Department of Environmental Protection expressed their intention to participate as cooperating agencies in the preparation of the EIS.

⁴ The Council on Environmental Quality implementing regulations for the NEPA addresses cooperating agency responsibilities at Title 40, Code of Federal Regulations, Part 1501.6.

The EIS will present our independent analysis of the issues. We will publish and distribute a draft EIS for public comment. After the comment period, we will consider all timely comments and revise the document, as necessary, before issuing a final EIS.

Proposed Actions of the USFS

The USFS is participating as a cooperating agency because the MVP Project would cross the Jefferson National Forest in West Virginia and Virginia. As a cooperating agency, the USFS intends to adopt the EIS per Tile 40 Code of Federal Regulations Part 1506.3 to meet its responsibilities under the NEPA regarding Mountain Valley's planned application to the USFS for a Right-of-Way Grant and Temporary Use Permit for crossing federally administered lands. The USFS additionally will assess how the planned pipeline conforms to the directions contained in the Jefferson National Forest's Land and Resource Management Plan (LRMP). Changes in the LRMP could be required if the pipeline is authorized across the National Forest. The EIS will provide the documentation to support any needed amendments to the LRMP.

Consultations Under Section 106 of the National Historic Preservation Act

In accordance with the Advisory Council on Historic Preservation's implementing regulations for section 106 of the National Historic Preservation Act, we are using this notice to initiate consultation with the applicable State Historic Preservation Offices, and to solicit their views and those of other government agencies, interested Indian tribes, and the public on the project's potential effects on historic properties.⁵ We will define the project-specific Area of Potential Effects (APE) in consultation with the SHPOs as the project develops. On natural gas facility projects, the APE at a minimum encompasses all areas subject to ground disturbance (examples include construction right-of-way, contractor/pipe storage yards, compressor stations, and access roads). Our EIS for this project will document our findings on the impacts on historic properties and summarize the status of consultations under section 106.

⁵ The Advisory Council on Historic Preservation implementing regulations for the National Historic Preservation Act are at Title 36, Code of Federal Regulations, Part 800. Those regulations define historic properties as any prehistoric or historic district, site, building, structure, or object included in or eligible for inclusion in the National Register of Historic Places.

Currently Identified Environmental Issues

We have already identified several issues that we think deserve attention in the EIS, from our preliminary review of the planned facilities, environmental information provided by Mountain Valley, and comments by stakeholders. This preliminary list of issues may change based on your comments and our further analyses. These issues include:

• Karst terrain, sinkholes, and caves;

• Domestic water sources, wells, springs, and waterbodies;

• Forested areas;

• Federally-listed threatened and endangered species, including mussels and bats;

• National Register of Historic Places listed Rural Historic Districts and other historic properties;

• Appalachian Trail, Blue Ridge Parkway, and other scenic by-ways;

• Residential developments and property values;

• Tourism and recreation;

• Local infrastructure and emergency response systems;

• Public safety;

• Operational noise from planned compressor stations; and

• Alternatives and their potential impacts on a range of resources.

Environmental Mailing List

The environmental mailing list includes federal, state, and local government representatives and agencies; elected officials; environmental and public interest groups; Indian tribes and Native American organizations; other interested parties; and local libraries and newspapers. This list also includes all affected landowners (as defined in the Commission's regulations) who are potential right-of-way grantors, whose property may be used temporarily for project purposes, or who own homes within certain distances of aboveground facilities, and anyone who provides a mailing addressed when they submit comments on the project. We will update the environmental mailing list as the analysis proceeds to ensure that we send the information related to this environmental review to all individuals, organizations, and government entities interested in and/or potentially affected by the planned project.

Copies of the completed draft EIS will be sent to the environmental mailing list for public review and comment. If you would prefer to receive a paper copy of the document instead of the CD version or would like to remove your name from the mailing list, please return the attached Information Request (appendix 2).

Becoming an Intervenor

Once Mountain Valley files its formal application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the e-filing link on the Commission's Web site. Please note that the Commission will not accept requests for intervenor status during the pre-filing process. You must wait until the Commission receives a formal application for the project from Mountain Valley, and the FERC issues a Notice of Application.

Additional Information

Additional information about the project is available from the Commission's Office of External Affairs, at (866) 208-FERC, or on the FERC Web site (www.ferc.gov) using the eLibrary link. Click on the eLibrary link, click on General Search, and enter the docket number, excluding the last three digits in the Docket Number field (i.e., PF15-3). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: April 17, 2015.
Kimberly D. Bose,
Secretary.

[FR Doc. 2015-09748 Filed 4-27-15; 8:45 am]

BILLING CODE 6717-01-P